DEPARTMENT OF TRANSPORTATION

National Highway Traffic Safety Administration

[Docket Number NHTSA-2018-0060]

Reports, Forms, and Record Keeping Requirements, Agency Information Collection Activity Under OMB Review

AGENCY: National Highway Traffic Safety Administration (NHTSA), DOT.

ACTION: Notice and request for comments.

SUMMARY: In compliance with the Paperwork Reduction Act of 1995, this notice announces that the Information Collection Request (ICR) abstracted below is being forwarded to the Office of Management and Budget (OMB) for review and comments. The ICR describes the nature of the information collection and its expected burden. A Federal Register Notice with a 60-day comment period soliciting public comments on the following information collection was published on July 17, 2018. This notice addresses comments received.

DATES: Written comments should be submitted on or before November 2, 2018.

ADDRESSES: Send comments to the Office of Information and Regulatory Affairs, Office of Management and Budget, 725 17th Street NW, Washington, DC 20503, Attention: NHTSA Desk Officer.

FOR FURTHER INFORMATION CONTACT: For additional information or access to background documents, contact Mary Byrd, Office of Behavioral Safety, National Highway Traffic Safety Administration, 1200 New Jersey Avenue SE, W46-466, Washington, DC 20590; telephone: (202) 366-5595; email: mary.byrd@dot.gov.

SUPPLEMENTARY INFORMATION:

I. Information Collection Request

Before a Federal agency can collect certain information from the public, it must receive approval from the Office of Management and Budget (OMB). In compliance with these requirements, this notice announces that the following information collection request has been forwarded to OMB.

OMB Control Number: To be issued at time of approval.

Title: Emergency Medical Services Sleep Health and Fatigue Education.

Form Numbers: NHTSA Forms 1460, 1461, 1462, 1463, 1464, 1465, 1466, and 1467.

Type of Review: New information collection.

Abstract: NHTSA proposes to collect information from Emergency Medical Services (EMS) personnel who operate ambulances on the roadway for a one-time voluntary study to evaluate the effectiveness of a fatigue mitigation intervention that delivers education and training. Up to 200 EMS agencies across the United States will be contacted and screened in order to recruit a total of 30 agencies to participate in the study. NHTSA anticipates contacting up to 100 EMS personnel per participating agency (3,000 total) to screen and recruit 1,500 eligible participants for the study. NHTSA expects 1,200 voluntary participants to complete the sign-up process, including providing demographic information and shift schedules, and to consent to participate in the 24-week study. Participants will complete a baseline survey that includes self-reported fatigue and sleepiness and will retake the survey halfway through the study and again at the end of the study. All participants will complete the ten ten-minute training modules during the study period. Once the study is underway, participants will be asked to respond to daily text messages about sleepiness and fatigue for eight weeks of the 24-week study. Finally, NHTSA will ask 30 of the 1,200 participants to provide additional information by keeping a daily sleep diary for eight weeks and by taking a brief vigilance task test to measure fatigue at the beginning and end of each shift over eight days.

Respondents: NHTSA anticipates contacting up to 3,000 EMS personnel across 30 participating agencies to recruit up to 1,200 voluntary respondents.

Estimated Total Annual Burden: The total estimated burden for EMS agency recruitment (17 hours), recruitment of EMS clinicians (250 hours), the consenting process (250 hours), initial data collection and training (2,900), follow-up data collection (6,600), and additional data collection for assessing measurement error (124) is 10,141 hours.

II. Comment Response

On July 14th, 2018, NHTSA published a notice in the Federal Register (NHTSA-2018-0060) with a 60-day public comment period to announce this proposed information collection. As of the closing date of September 17th, 2018, two comments were received in response to this notice.

Both comments were positive and supportive of this information collection request.

Authority: The Paperwork Reduction Act of 1995; 44 U.S.C. Chapter 35, as amended; and 49 CFR 1.95.

Issued in Washington, DC on September 28, 2018.
Jeff Michael,
Associate Administrator, Research and Program Development.

[FR Doc. 2018-21540 Filed 10-2-18; 8:45 am]

BILLING CODE 4910-59-P